DEPARTMENT OF THE INTERIOR

National Park Service

AGENCY: National Park Service, Interior.

ACTION: Public Notice.

SUMMARY: Pursuant to 36 CFR 51.23, public notice is hereby given that the National Park Service proposes to extend the following expiring concession contracts for a period of up to one year, or until such time as a new contract is extended, whichever occurs sooner.

SUPPLEMENTARY INFORMATION: All of the listed concession authorizations will expire by their terms on or before December 31, 2002. The National Park Service has determined that the proposed short-term extensions are necessary in order to avoid interruption of visitor services and has taken all reasonable and appropriate steps to consider alternatives to avoid such interruption. These extensions will allow the National Park Service to complete and issue prospectuses leading to the competitive selection of concessioners for new long-term concession contracts covering these operations.

Conc ID No. | Concessioner name | Park
ACAD010-95 | National Park Tours | Acadia National Park.
ACAD011-95 | Oli's Trolley | Acadia National Park.
ASIS001-99 | Eastern National | Assateague Island National Seashore.
CACO002-96 | Benz Corporation | Cape Cod National Seashore.
CACO005-97 | Highland Museum & LH | Cape Code National Seashore.
COLO005-95 | Eastern National | Colonial National Historic Park.
DEWA004-98 | Pepsi-Cola Co | Delaware Water Gap NRA.
FOMC001-96 | Evelyn Hill, Inc | Fort McHenry NM & Historical Shrine.
GATE002-88 | Shields & Dean (JB) | Gateway National Recreation Area.
GATE013-88 | Shields & Dean (RP) | Gateway National Recreation Area.
GATE017-99 | JEN Marine | Gateway National Recreation Area.
GEWA001-95 | GW Birthplace Natl. Mem. Gift Shop | George Washington Birthplace NM.
SAHI001-97 | Friends of SAHI | Sagamore Hill National historic Site.
SHEN002-90 | Potomac Appalachian Trail Club | Shenandoah National Park.
STEA001-96 | Steamtown Museum Association | Steamtown National Historic Site.
VAFO001-97 | Valley Forge Tours | Valley Forge National Historic Park.

EFFECTIVE DATE: January 2, 2003.

FOR FURTHER INFORMATION CONTACT: Cynthia Orlando, Concession Program Manager, National Park Service, Washington, DC 20240, Telephone 202/513-7156.

Dated: December 13, 2002.
Richard G. Ring,
Associate Director, Administration, Business Practices and Workforce Development.

[FR Doc. 03-2322 Filed 1-30-03; 8:45 am]

BILLING CODE 4310-70-M